DEPARTMENT OF HOMELAND SECURITY

Coast Guard

33 CFR Part 100

[Docket Number USCG-2025-0463]

RIN 1625-AA08

Special Local Regulation; 100th Annual Pony Swim, Chincoteague Inlet and Surrounding Waters, Sector Virginia Captain of the Port Zone

AGENCY: Coast Guard, DHS.

ACTION: Temporary final rule.

SUMMARY: The Coast Guard is establishing a temporary Special Local Regulation on the waters around Assateague, Chincoteague, and Wallops Islands, on Virginia's Eastern Shore. This action is necessary to provide for the safety of life on these navigable waters from potential hazards during the week of the 100th Annual Pony Roundup, Swim & Auction. All non-participants would be intermittently prohibited from entering, transiting through, anchoring in, or remaining within the regulated area without permission from the Captain of the Port or a designated representative.

DATES: This rule is effective from 6 a.m. on July 26, 2025, through 10 p.m. on August 1, 2025.

ADDRESSES: To view documents mentioned in this preamble as being available in the docket, go to https://www.regulations.gov, type USCG-USCG-2025-0463 in the search box and click “Search.” Next, in the Document Type column, select “Supporting & Related Material.”

FOR FURTHER INFORMATION CONTACT: If you have questions about this rule, call or email LCDR Justin Strassfield, Sector Virginia, Waterways Management Division, U.S. Coast Guard, Telephone: (571) 608-2969; or virginiawaterways@uscg.mil.

SUPPLEMENTARY INFORMATION:

I. Table of Abbreviations

COTP Captain of the Port, Sector Virginia

CFR Code of Federal Regulations

DHS Department of Homeland Security

FR Federal Register

NPRM Notice of proposed rulemaking

§ Section

SLR Special Local Regulation

U.S.C. United States Code

II. Background Information and Regulatory History

A Captain of the Port, after approving plans for the holding of a “regatta or marine parade” (an organized water event of limited duration which is conducted according to a prearranged schedule, 33 CFR 100.05(a)) within his or her Captain of the Port Zone, is authorized to promulgate such special local regulations (SLRs) as he or she deems necessary to ensure safety of life on the navigable waters immediately prior to, during, and immediately after the approved regatta or marine parade. 33 CFR 100.35. This year, like each previous year, the Chincoteague Volunteer Fire Company notified the Coast Guard that it will be conducting a pony round up and auction. This requires closure of the Assateague Channel for a “pony swim,” the passage of the animals from Assateague Island to Chincoteague Island, and the sponsor submitted a permit application under 33 CFR 100.15, as it has in previous years. To provide for the closure of the Assateague Channel and to reserve sufficient space to designate spectator areas around the event, a permanent SLR was created in table 3 to paragraph (i)(3) to 33 CFR 100.501 to support this recurring, permitted marine event.

This year's event is the 100th of its kind and it is therefore expected to attract many more spectators than in previous years. Due to the expected increased number of spectators, increased vessel traffic, and an increased population on and around Chincoteague Island, the Captain of the Port, Sector Virginia (COTP) has determined this year's event will present safety concerns over a significantly larger area than the regulated area of the permanent SLR.

In response, on June 16, 2025, the Coast Guard published a notice of proposed rulemaking (NPRM) titled Special Local Regulation; 100th Annual Pony Swim, Chincoteague Inlet and Surrounding Waters, Sector Virginia Captain of the Port Zone. There, we stated why we issued the NPRM and we invited comments on our proposed regulatory action related to this marine event. During the comment period that ended June 30, 2025, we received no comments.

Under 5 U.S.C. 553(d)(3), the Coast Guard finds that good cause exists for making this rule effective less than 30 days after publication in the Federal Register. Delaying the effective date of this rule is impracticable because immediate action is needed to respond to the potential safety hazards associated with the increased vessel traffic and associated navigational hazards connected with the channel closure, due to occur less than 30 days after this rule is published.

III. Legal Authority and Need for Rule

The Coast Guard is issuing this rule under the authority in 46 U.S.C. 70041. The Captain of the Port, Sector Virginia (COTP) has determined that potential hazards associated with increased concentration of vessels associated with the marine event starting on July 26th and lasting until August 1st. will be a safety concern for persons and property within the Outer Area described within this rule. The purpose of this rule is to ensure safety of vessels and the navigable waters in the Outer Area before, during, and after the scheduled event.

IV. Discussion of Comments, Changes, and the Rule

As noted above, we received no comments on our NPRM published June 16th, 2025. However, we have assessed that the use of the terms “Buffer Zone” and “Regulated Area,” as defined in the NPRM may be confusing. We have therefore substituted the term “Outer Area” for what we had referred to as the “Buffer Zone” in the NPRM, and we have substituted the term “Inner Area” for what we had referred to in the NPRM as the “Regulated Area.” In this final rule, the term “Regulated Area” refers to the “Inner Area” and the “Outer Area” combined. These changes in terminology do not affect the intended operation of the rule.

This rule therefore establishes a temporary SLR with a “Regulated Area” consisting of an “Inner Area” and an “Outer Area.” The SLR will be in effect and subject to enforcement twenty-four hours a day, starting at 6 a.m. on July 26th, 2025 and ending at 10 p.m. on August 1, 2025. (This is in contrast to the permanent rule, which is in effect for two nonconsecutive days a year.) What we have defined as the “Inner Area” of this temporary SLR is the same geographic area as the entire “Regulated Area,” as defined in the permanent rule. The “Outer Area” consists of that portion the “Regulated Area” outside the “Inner Area.”

The COTP and Coast Guard Event Patrol Commander (PATCOM) will control the movement of all vessels and persons, including event participants, in both portions of the regulated area, as warranted by the circumstances, and may forbid movement within the Inner Area. The Inner Area includes all navigable waters encompassed by a boundary line connecting the following four points beginning 37 57′ N, 075 27′ W; then to 37 57′ N, 075 21′ W; thence to 37 52′ N, 075 21′ W; then to 37 52′ N, 075 27′ W and back to the beginning point, and provide a regulated area centered on the area within the Outer Area at the where the channel closure is planned between Assateague and Chincoteague Island. The duration of the zone is intended to ensure the safety of vessels and these navigable waters before, during, and after marine event. No vessel or person will be permitted to enter the regulated area without obtaining permission from the COTP or a designated representative.

V. Regulatory Analyses

We developed this rule after considering numerous statutes and Executive orders related to rulemaking. Below we summarize our analyses based on a number of these statutes and Executive orders.

A. Regulatory Planning and Review

Executive Orders 12866 (Regulatory Planning and Review) and 13563 (Improving Regulation and Regulatory Review) direct agencies to assess the costs and benefits of available regulatory alternatives and, if regulation is necessary, to select regulatory approaches that maximize net benefits. Executive Order 13563 emphasizes the importance of quantifying both costs and benefits, of reducing costs, of harmonizing rules, and of promoting flexibility.

The Office of Management and Budget (OMB) has not designated this rule a “significant regulatory action,” under section 3(f) of Executive Order 12866. Accordingly, OMB has not reviewed it. The Coast Guard has determined it to be a nonsignificant regulatory action.

This regulatory action determination is based on the size, location, and duration of the SLR. In addition, we anticipate that vessel traffic would be able to safely transit normally though the entire regulated area during the evenings, when vessel traffic is usually low. (Non-participant vessels transiting through the Inner Area would have to request permission to transit the Inner Area, but we do not anticipate any reason to have to deny such requests during the evenings.) Moreover, within the Outer Area, beyond the immediate vicinity of the Pony Swim, the Coast Guard will only be controlling traffic when there are unsafe concentrations of marine traffic, or where the concentration of marine traffic would impact the safe transit of emergency services.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard received no comments from the Small Business Administration on this rulemaking. The Coast Guard certifies under 5 U.S.C. 605(b) that this rule will not have a significant economic impact on a substantial number of small entities.

While some owners or operators of vessels intending to transit the area encompassed by the Outer Area may be small entities, for the reasons stated in section V.A above, this rule will not have a significant economic impact on any vessel owner or operator.

Under section 213(a) of the Small Business Regulatory Enforcement Fairness Act of 1996 (Pub. L. 104-121), we want to assist small entities in understanding this rule. If the rule will affect your small business, organization, or governmental jurisdiction and you have questions concerning its provisions or options for compliance, please call or email the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969(42 U.S.C. 4321-4370f), and have determined that this action is one of a category of actions that do not individually or cumulatively have a significant effect on the human environment. This rule involves SLR lasting approximately seven days that would supplement existing Coast Guard authorities to manage traffic and existing navigation rules for the expected vessel concentrations associated with a high spectator marine event. It is categorically excluded from further review under paragraph L61of Appendix A, Table 1 of DHS Instruction Manual 023-01-001-01, Rev. 1.

List of Subjects in 33 CFR Part 100

Marine safety, Navigation (water), Reporting and recordkeeping requirements, Waterways.

For the reasons discussed in the preamble, the Coast Guard amends 33 CFR part 100 as follows:

PART 100—SAFETY OF LIFE ON NAVIGABLE WATERS

1. The authority citation for part 100 continues to read as follows:

Authority: 46 U.S.C. 70041; 33 CFR 1.05-1.

2. Add § 100.T599-0463 to read as follows:

§ 100.T599-0463 100th Annual Pony Roundup, Swim & Auction, Chincoteague Island and Surrounding Waters, Virginia.

(a) Regulated area. The regulations in this section apply to the following area, consisting of an Inner Area and an Outer Area encompassed by the following: 37 57′ N, 075 27′ W; then to 37 57′ N, 075 21′ W; thence to 37 52′ N, 075 21′ W; then returning to 37 52′ N, 075 27′ W.

(b) Inner Area. The navigable waters of Assateague Channel from shoreline to shoreline, bounded to the east by a line drawn from latitude 37°55′01″ N, longitude 075°22′40″ W, thence south to latitude 37°54′50″ N, longitude 075°22′46″ W; and to the southwest by a line drawn from latitude 37°54′54″ N, longitude 075°23′00″ W, thence east to latitude 37°54′49″ N, longitude 075°22′49″ W.

(c) Outer area. All navigable waters surrounding the inner area of regulated area from surface to bottom, encompassed by a boundary line connecting the following four points beginning 37 57′ N, 075 27′ W; then to 37 57′ N, 075 21′ W; thence to 37 52′ N, 075 21′ W; then to 37 52′ N, 075 27′ W and back to the beginning point. All coordinates in this rule are based on WGS 84.

(d) Definitions. As used in this section—Designated representative means a Coast Guard Patrol Commander, including a Coast Guard coxswain, petty officer, or other officer operating a Coast Guard vessel and a Federal, State, and local officer designated by or assisting the Captain of the Port Virginia (COTP) in the enforcement of the regulations in this section.

Participant means any person or vessel registered with the event sponsor as a participant in the event.

Regulated Area means an area where special local regulations apply to a specific described waterway to include creeks, sounds, bays, rivers, and oceans. Regulated areas include all navigable waters of a specific body of water described with intent to define boundaries where the Coast Guard enforces special local regulations. Boundaries may be described from shoreline to shoreline, reference bridges or other fixed structures, by points and lines defined by latitude and longitude. All coordinates provided reference Datum: WGS 1984.

(e) Regulations. (1) All non-participants are prohibited from entering, transiting through, anchoring in, or remaining within the Inner Area described in paragraph (b) of this section unless authorized by the Captain of the Port, Sector Virginia or their designated representative.

(2) To seek permission to enter or transit the Inner Area, contact the COTP or the COTP's representative by VHF/FM Channel 16. Those in the Inner Area must comply with all lawful orders or directions given to them by the COTP or the designated representative.

(3) The Event PATCOM or official patrol vessel may forbid and control the movement of all persons and vessels in the Outer Area described in paragraph (c) or Inner Area described in paragraph (b). When hailed or signaled by an official patrol vessel, the person or vessel being hailed must immediately comply with all directions given. Failure to do so may result in expulsion from the Outer Area, citation for failure to comply, or both.

(4) Approaching Bridge foundations. Any vessel operating beneath a bridge anywhere within the regulated area must make a direct, immediate and expeditious passage beneath the bridge while remaining within the navigable channel. No vessel may stop, moor, anchor or loiter beneath a bridge at any time. No vessel may approach within a 25-yard radius of any bridge foundation, support, stanchion, pier or abutment except as required for the direct, immediate and expeditious transit beneath a bridge.

(5) The COTP will provide notice of the Regulated Area through advanced notice via broadcast notice to mariners and by on-scene designated representatives.

(e) Enforcement period. This section will be subject to enforcement twenty-four hours a day starting at 6 a.m. on July 26th, 2025 and ending at 10 p.m. on August 1, 2025.

Dated: July 14, 2025.
Peggy M. Britton,
Captain, U.S. Coast Guard, Captain of the Port Sector Virginia.

[FR Doc. 2025-13655 Filed 7-18-25; 8:45 am]

BILLING CODE 9110-04-P